DEPARTMENT OF AGRICULTURE

Farm Service Agency

Release of Georgia Tobacco Farmers' Social Security Numbers to the State of Georgia for Matching Payments Under the Tobacco Payment Program

AGENCY: Farm Service Agency, USDA.

ACTION: Notice.

SUMMARY: This notice announces the Farm Service Agency's (FSA's) intent to release the Social Security Numbers of those Georgia tobacco farmers who received 2003 Federal Tobacco Payment Program (TOPP) payments to the State of Georgia and instructs interested parties how to opt out of the release. Social Security Numbers will enable Georgia to distribute an identical sum of State funds to each Georgia farmer who received a Federal TOPP payment.

DATES: To be assured of consideration, requests for exemption from the release of Social Security information must be received in writing on or before August 22, 2003.

ADDRESSES: Mail or hand-deliver requests to opt out of the release of Social Security information to Director, Tobacco Division, FSA, USDA, 1400 Independence Avenue, SW., Room 5750-S, STOP 0514, Washington, DC 20250-0514. Also, requests may be sent by facsimile to (202) 720-9832 or by e-mail to tob_comments@wdc.usda.gov.

FOR FURTHER INFORMATION CONTACT: Ann Wortham, Agricultural Program Specialist, Tobacco Division, FSA, USDA, STOP 0514, 1400 Independence Avenue, SW,, Washington, DC 20250-0514: Telephone—(202) 720-2715; e-mail—ann_wortham@wdc.usda.gov

SUPPLEMENTARY INFORMATION: Section 205 of the Agricultural Assistance Act of 2003 (Pub. L. 108-7) (the Act) provides for Federal TOPP payments to be made to eligible persons for certain kinds of tobacco. Tobacco farmers who applied for Federal TOPP payments were required to provide their Social Security Numbers to the Farm Service Agency (FSA).

The Act includes a special rule for Georgia that requires that Federal payments would be made to farmers in Georgia only if the State of Georgia agreed to use $13,000,000 of State funds to make payments concurrently, or subsequently, to the same persons and in the same manner as stipulated for the TOPP payments.

In order to efficiently and expeditiously make the matching payments to Georgia tobacco farmers, the State of Georgia has requested that FSA provide the names, addresses, Social Security Numbers, and the amount of money to be paid to each farmer. Precautions will be taken to ensure that the Social Security information will only be used by the State of Georgia to make matching payments and will not be released to outside entities or individuals. The matching State payments can provide much needed financial help to Georgia farmers and therefore the Secretary intends to release the Social Security Numbers to the State of Georgia. However, because Social Security Numbers are private, the Secretary will not release the Social Security Numbers of Georgia tobacco farmers who request that they not be released. Farmers who want to opt out of the release must send written notice of their election to the Director of the Tobacco Division, as provided in the ADDRESSES section of this notice.

Each farmer should understand that not releasing his or her Social Security Number to the State of Georgia could result in a delay in receiving a payment from the State or ineligibility for such a payment. FSA does not expect many farmers to opt out of the release.

Signed at Washington, DC, on August 1, 2003.
James R. Little,
Administrator, Farm Service Agency.

[FR Doc. 03-20117 Filed 8-4-03; 12:08 pm]

BILLING CODE 3410-05-P